DEPARTMENT OF HEALTH AND HUMAN SERVICES

Centers for Disease Control and Prevention

[30Day-21-0740]

Agency Forms Undergoing Paperwork Reduction Act Review

In accordance with the Paperwork Reduction Act of 1995, the Centers for Disease Control and Prevention (CDC) has submitted the information collection request titled Medical Monitoring Project (MMP) to the Office of Management and Budget (OMB) for review and approval. CDC previously published a “Proposed Data Collection Submitted for Public Comment and Recommendations” notice on September 8, 2020 to obtain comments from the public and affected agencies. CDC received no comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Medical Monitoring Project (MMP)—(OMB Control No. 0920-0740, Exp. 6/30/2021)—Revision—National Center for HIV/AIDS, Viral Hepatitis, STD, and TB Prevention (NCHHSTP), Centers for Disease Control and Prevention (CDC).

Background and Brief Description

The Centers for Disease Control and Prevention (CDC), Division of HIV/AIDS Prevention (DHAP) requests a Revision of the currently approved Information Collection Request: “Medical Monitoring Project” expiring June 30, 2021. This data collection addresses the need for national estimates of access to, and utilization of, HIV-related medical care and services, the quality of HIV-related ambulatory care, and HIV-related behaviors and clinical outcomes.

For the proposed project, the same data collection methods will be used as for the currently approved project. Data would be collected from a probability sample of HIV-diagnosed adults in the U.S. who consent to an interview and abstraction of their medical records. As for the currently approved project, de-identified information would also be extracted from HIV case surveillance records for a dataset, referred to as the minimum dataset, which is used to assess non-response bias, for quality control, to improve the ability of MMP to monitor ongoing care and treatment of HIV-infected persons, and to make inferences from the MMP sample to HIV-diagnosed persons nationally. No other Federal agency collects such nationally representative population-based information from HIV-diagnosed adults. The data are expected to have significant implications for policy, program development, and resource allocation at the state/local and national levels.

The changes proposed in this request update the data collection system to meet prevailing information needs and enhance the value of MMP data, while remaining within the scope of the currently approved project purpose. The result is a 10% reduction in burden, or a reduction of 647 total burden hours annually. The reduction in burden was a result of revisions to the interview questionnaire that were made to improve coherence, boost the efficiency of the data collection, and increase the relevance and value of the information, which decreased the time of interview from 45 minutes to 40 minutes.

Changes were made that did not affect the burden, listed below:

• Non-substantive changes have been made to the respondent consent form to decrease the reading comprehension level and make the form more visual.

• Nine data elements were removed from and three data elements were added to the Minimum Dataset. Because these data elements are extracted from the HIV surveillance system from which they are sampled, these changes do not affect the burden of the project.

• Seven data elements were added to the medical record abstraction data elements to collect information on SARS-CoV-2 (COVID-19) testing. Because the medical records are abstracted by MMP staff, these changes do not affect the burden of the project.

This proposed data collection would supplement the National HIV Surveillance System (NHSS, OMB Control No. 0920-0573, Exp. 11/30/2022) in 23 selected state and local health departments, which collect information on persons diagnosed with, living with, and dying from HIV infection and AIDS. Through their participation, respondents will help to improve programs to prevent HIV infection as well as services for those who already have HIV. The participation of respondents is voluntary. There is no cost to the respondents other than their time. Total estimated annual burden requested is 5,707 hours.

Estimated Annualized Burden Hours
Respondent type | Form name | Number of respondents | Number of responses per respondent | Average hours per response
Sampled, Eligible HIV-Infected Persons | Interview Questionnaire | 7,760 | 1 | 40/60
Facility office staff looking up contact information | Look up contact information | 1,940 | 1 | 2/60
Facility office staff approaching sampled persons for enrollment | Approach persons for enrollment | 970 | 1 | 5/60
Facility office staff pulling medical records | Pull medical records | 7,760 | 1 | 3/60

Jeffrey M. Zirger,
Lead, Information Collection Review Office, Office of Scientific Integrity, Office of Science, Centers for Disease Control and Prevention.

[FR Doc. 2021-06289 Filed 3-25-21; 8:45 am]

BILLING CODE 4163-18-P